DEPARTMENT OF THE INTERIOR

Bureau of Land Management

[ES-030-1430-EU; WIES-51706]

Notice of Realty Action: Modified Competitive Sale of Public Land in Langlade County, WI

AGENCY: Bureau of Land Management, Interior.

ACTION: Notice of Realty Action.

SUMMARY: The Bureau of Land Management (BLM) proposes to sell a 1.18 acre parcel of land located in Langlade County, Wisconsin at not less than the appraised fair market value (FMV). The Bureau of Land Management-Eastern States (BLM-ES), Milwaukee Field Manager has determined the parcel will be offered for sale only to the current adjoining landowners under modified competitive sale procedures because the parcel has no legal access via a public road and is surrounded by private lands.

DATES: Comments regarding the proposed sale must be in writing and received by the Field Manager, BLM-ES, Milwaukee at the address below not later than September 18, 2006. Sealed bids must be received by BLM not later than 4:30 p.m. CDT, October 2, 2006.

ADDRESSES: BLM-ES, Milwaukee Field Office, 626 East Wisconsin Avenue, Suite 200, Milwaukee, Wisconsin 53202. Comments received in electronic form such as e-mail or facsimile will not be considered.

Address all sealed bids, marked as specified below, to the address above.

FOR FURTHER INFORMATION CONTACT: Marcia Sieckman at 414-297-4402 or BLM-ES, Milwaukee Field Office, 626 East Wisconsin Avenue, Suite 200, Milwaukee, Wisconsin 53202.

SUPPLEMENTARY INFORMATION: In accordance with the provisions of 43 CFR parts 2710 and 2720, the following described land is proposed to be sold pursuant to the authority provided in Sections 203 and 209 of the Federal Land Policy and Management Act of 1976 (FLPMA) as amended (43 U.S.C. 1713, 1719). The parcel to be sold is identified as suitable for disposal in the Wisconsin Resource Management Plan Amendment (2001).

Publication of this notice in the Federal Register shall segregate the lands described below from appropriation under the public land laws. The segregative effect of this notice shall terminate upon issuance of patent, upon publication in the Federal Register of a termination of the segregation or May 28, 2007, whichever occurs first.

Fourth Principal Meridian

T. 33 N., R. 10 E.,

Sec. 25, lot 17.

The area described contains 1.18 acres in Langlade County.

The appraised market value is $85,000. This parcel cannot be legally accessed by a public road. It is surrounded by private property and isolated from other Federal lands. There are no encumbrances reported on the records maintained by the BLM-ES, Milwaukee Field Office.

This parcel of land is being offered for sale through modified competitive bid procedures to the adjacent landowners who have repeatedly expressed an interest in acquiring the property. A modified competitive sale will protect the on-going uses of the parcel, assure compatibility of the future uses with adjacent lands, and allow the adjacent landowners an equal opportunity to successfully bid on the property. Bidding is only open to the following adjacent landowners (designated bidders): Martha Johnson and Jerrold and Barb Plamann.

Offers to purchase the parcel will be made by sealed bid only. All bids must be received at the BLM-ES, Milwaukee Field Office, Attention: Marcia Sieckman, 626 East Wisconsin Avenue, Suite 200, Milwaukee, Wisconsin 53202, not later than 4:30 p.m. CDT, October 2, 2006.

Sealed bids will be opened to determine the high bid at 10 a.m. CDT, October 3, 2006 at the BLM-ES, Milwaukee Field Office.

Bids must be for not less than the appraised market value for the parcel, as reviewed and approved in advance of the sale by the BLM. Each sealed bid must be accompanied by a certified check, postal money order, bank draft, or cashier's check made payable in U.S. currency to the Bureau of Land Management for an amount not less than 20 percent of the total amount of the bid. Personal checks will not be accepted.

The bid envelope also must contain a signed statement giving the total amount bid for the parcel and the bidder's name, mailing address, and phone number. As provided in the regulations at 43 CFR 2711.302(a)(1)(ii), bidders shall be designated by the BLM and limited to the adjoining landowners. Bids submitted by persons or entities other than the designated bidders will be rejected. If BLM receives two or more valid high bids offering an identical amount for the parcel, BLM will notify the apparent high bidders of further procedures to determine the highest qualifying bid.

The successful bidder will be allowed 180 days from the date of sale to submit the remainder of the full bid price. Failure to timely submit full payment shall result in forfeiture of the bid deposit to the BLM, and the parcel will be offered to the second highest qualifying bidder at their original bid. If there are no acceptable bids, the parcel may continue to be re-offered on a continuing basis in accordance with the competitive sale procedures described in 43 CFR 2711.3-1. Sealed bids, at not less than the appraised value, prepared and submitted in the manner described above will be accepted from any qualified bidder. Bids will be opened at 10 a.m. (local time), on the first Friday of each month until the offer is cancelled.

By law, public lands may be conveyed only to (1) Citizens of the United States who are 18 years old or older, (2) a corporation subject to the laws of any State or of the United States, (3) an entity including, but not limited to, associations or partnerships capable of acquiring and owning real property, or interests therein, under the laws of the State of Wisconsin, or (4) a State, State instrumentality, or political subdivision authorized to hold real property.

No warranty of any kind, express or implied, is given by the United States as to the title, physical condition, or potential uses of the parcel proposed for sale.

The Federal mineral interests underlying this parcel have no known mineral value and will be conveyed with the sale of the parcel. A sealed bid for the above described parcel constitutes an application for conveyance of those mineral interests. In addition to the full purchase price, a successful bidder must pay a separate nonrefundable filing fee of $50 for the mineral interests to be conveyed simultaneously with the sale of the land.

Detailed information concerning the proposed land sale, including sale procedures, terms of sale, proposed patent provisions, appraisals, planning and environmental documents, and the mineral report is available for review at the BLM-ES, Milwaukee Field Office, 626 East Wisconsin Avenue, Suite 200, Milwaukee Wisconsin 53202. Normal business hours are 7:30 a.m. to 4:30 p.m. CDT, Monday through Friday, except Federal holidays.

The general public and interested parties may submit written comments regarding the proposed sale to the Field Manager, BLM-ES, Milwaukee Field Office at the above address not later than September 18, 2006. Comments received during this process, including respondent's name, address, and other contact information, will be available for public review. Individual respondents may request confidentiality. If you wish to request that BLM consider withholding your name, address, and other contact information (phone number, e-mail address, or fax number, etc.) from public review or disclosure under the Freedom of Information Act, you must state this prominently at the beginning of your comment. The BLM will honor requests for confidentiality on a case-by-case basis to the extent allowed by law. The BLM will make available for public review, in their entirety, all comments submitted by businesses or organizations, including comments by an individual in their capacity as an official or representative of a business or organization.

Any adverse comments will be reviewed by the State Director, who may sustain, vacate, or modify this realty action. In the absence of timely filed objections, this realty action will become the final determination of the Department of the Interior.

Authority: 43 Code of Federal Regulations 2711.1-2(a).

Dated: July 26, 2006.
Michael D. Nedd,
State Director, Eastern States.

[FR Doc. E6-12422 Filed 8-1-06; 8:45 am]

BILLING CODE 4310-GJ-P